DEPARTMENT OF COMMERCE

International Trade Administration

[A-570-853]

Bulk Aspirin From the People's Republic of China; Extension of Time Limit for the Final Results of Antidumping Duty Review

AGENCY: Import Administration, International Trade Administration, Department of Commerce.

ACTION: Notice of extension of time limit.

SUMMARY: The Department of Commerce is extending the time limit for the final results of the administrative review of the antidumping duty order on bulk aspirin from the People's Republic of China. The period of review is July 6, 2000, through June 30, 2001. This extension is made pursuant to section 751(a)(3)(A) of the Tariff Act of 1930, as amended (“the Act”).

EFFECTIVE DATE: December 3, 2002.

FOR FURTHER INFORMATION CONTACT: Julie Santoboni or Cole Kyle, Office 1, Import Administration, International Trade Administration, U.S. Department of Commerce, 14th Street and Constitution Avenue, NW., Washington DC 20230; at telephone (202) 482-4194 and 482-1503, respectively.

Statutory Time Limits

Section 751(a)(3)(A) of the Act requires the Department of Commerce (“the Department”) to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On August 20, 2001, we published a notice of initiation of the administrative review of bulk acetylsalicylic acid, commonly referred to as bulk aspirin, from the People's Republic of China. See Initiation of Antidumping and Countervailing Duty Administrative Reviews and Requests for Revocations in Part, 66 FR 43570 (August 20, 2001). The period of this review is July 6, 2000, through June 30, 2001. On August 7, 2002, we published the preliminary results of our review. In our notice of preliminary results, we stated our intention to issue the final results of this review no later than 120 days after the date of publication of the preliminary results, December 5, 2002.

Extension of Time Limits for Final Results

Due to the complexity of the surrogate value issues raised in the petitioner's case brief, we determine that it is not practicable to complete the final results of this review within the original time limit. Therefore, the Department is extending the time limit for completion of the final results until no later than February 3, 2003. This extension is in accordance with section 751(a)(3)(A) of the Act.

Dated: December 4, 2002.
Susan Kuhbach,
Acting Deputy Assistant Secretary for AD/CVD Enforcement I.

[FR Doc. 02-31152 Filed 12-9-02; 8:45 am]

BILLING CODE 3510-DS-P